DEPARTMENT OF TRANSPORTATION

Federal Highway Administration

Rescinding the Notice of Intent To Prepare Environmental Impact Statement (EIS): Maui County, Hawaii

AGENCY: Federal Highway Administration (FHWA), DOT.

ACTION: Notice to rescind notice of intent (NOI) to prepare an environmental impact statement (EIS).

SUMMARY: The FHWA is issuing this notice to advise the public that the FHWA will not be preparing an EIS to evaluate alternatives that would reduce congestion and improve safety and reliability of Hana Highway between the intersection of Hana Highway with Haleakala Highway and Maliko Gulch on the north side of the Paia-Haiku region, Maui County, Hawaii. An NOI to prepare an EIS was published in the Federal Register on November 17, 2009.

FOR FURTHER INFORMATION CONTACT: Ralph Rizzo, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS with an NOI published in the Federal Register on November 17, 2009, at 67 FR 38310, to prepare an EIS.

The EIS identified three build alternatives within the initial project limits which varied from 6.3 miles to 6.9 miles in total length. An extensive Archaeological Inventory Survey (AIS) which covered 552 acres was conducted and resulted in the identification of 52 newly identified possible historic properties and 11 previously identified historic properties within or in the proximity of the study corridor. The AIS revealed that the three build alternatives all would have impacts on archaeological and historic resources and a Section 4(f) use would likely occur. A shorter avoidance alternative approximately 2.5 miles in total length was identified, however public opinion favors a considerably longer alternative not within the current project area and above the limited funding resources currently available. Therefore, HDOT has decided not to pursue the project and the preparation of the EIS is being terminated.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508.

Issued on: May 29, 2020.
Ralph Rizzo,
Division Administrator Honolulu, HI.

[FR Doc. 2020-12119 Filed 6-4-20; 8:45 am]

BILLING CODE 4910-RY-P